DEPARTMENT OF ENERGY

Federal Energy Regulatory Commission

Combined Notice of Filings #1

Take notice that the Commission received the following electric rate filings:

Docket Numbers: ER10-1246-011; ER10-1982-012; ER10-1253-011; ER10-1252-011; ER13-764-012; ER14-1927-003; ER12-2498-012; ER12-2499-012; ER14-1776-005; ER12-1566-006; ER14-1548-004; ER11-3987-007.

Applicants: Consolidated Edison Energy, Inc., Consolidated Edison Company of New York, Inc., Orange and Rockland Utilities, Inc., Consolidated Edison Solutions, Inc., CED White River Solar, LLC, CED White River Solar 2, LLC, Alpaugh 50, LLC, Alpaugh North, LLC, Broken Bow Wind II, LLC, Copper Mountain Solar 2, LLC, Copper Mountain Solar 3, LLC, Mesquite Solar 1, LLC.

Description: Notice of Change in Status of the Consolidated Edison, Inc. subsidiaries.

Filed Date: 4/30/15.

Accession Number: 20150430-5645.

Comments Due: 5 p.m. ET 5/21/15.

Docket Numbers: ER12-1436-009; ER14-152-004; ER13-1793-006; ER10-3099-012; ER12-1260-008; ER10-2329-006; ER14-153-003; ER14-154-003; ER10-3300-009; ER13-2386-003; ER10-3143-015.

Applicants: Eagle Point Power Generation LLC, Elgin Energy Center, LLC, Hazle Spindle, LLC, RC Cape May Holdings, LLC, Stephentown Spindle, LLC, Vineland Energy LLC, Gibson City Energy Center, LLC, Grand Tower Energy Center, LLC, La Paloma Generating Company, LLC, Lakeswind Power Partners, LLC, Sabine Cogen, LP.

Description: Notice of Change in Status of the Rockland Sellers.

Filed Date: 4/30/15.

Accession Number: 20150430-5647.

Comments Due: 5 p.m. ET 5/21/15.

Docket Numbers: ER12-2178-013; ER14-2145-003; ER14-2144-003; ER14-1524-005; ER13-1536-007; ER12-2311-011; ER12-2201-011; ER12-1829-011; ER12-1223-016; ER11-3989-016; ER11-2056-018; ER11-2014-021; ER11-2013-021; ER11-2011-020; ER11-2010-021; ER11-2009-020; ER11-2005-021; ER10-3308-022; ER10-2184-024; ER10-2182-027; ER10-2181-027; ER10-2180-024; ER10-2179-027; ER10-2172-024; ER10-1143-020; ER10-1081-021; ER10-1080-020; ER10-1078-020; ER10-1048-021; ER10-1020-020.

Applicants: AV Solar Ranch 1, LLC, Baltimore Gas and Electric Company, Beebe 1B Renewable Energy, LLC, Beebe Renewable Energy, LLC, Calvert Cliffs Nuclear Power Plant, LLC, CER Generation, LLC, Commonwealth Edison Company, Constellation Mystic Power, LLC, Constellation Power Source Generation, LLC, Cow Branch Wind Power, LLC, CR Clearing, LLC, Criterion Power Partners, LLC, Exelon Framingham LLC, Exelon Generation Company, LLC, Exelon New Boston, LLC, Exelon West Medway, LLC, Exelon Wind 4, LLC, Exelon Wyman, LLC, Fourmile Wind Energy, LLC, Handsome Lake Energy, LLC, Harvest II Windfarm, LLC, Harvest Windfarm, LLC, Michigan Wind 1, LLC, Michigan Wind 2, LLC, Nine Mile Point Nuclear Station, LLC, PECO Energy Company, R.E. Ginna Nuclear Power Plant, LLC, Shooting Star Wind Project, LLC, Wildcat Wind, LLC, Wind Capital Holdings, LLC.

Description: Notice of Non-Material Change in Status of the Exelon MBR Entities.

Filed Date: 4/30/15.

Accession Number: 20150430-5652.

Comments Due: 5 p.m. ET 5/21/15.

Docket Numbers: ER14-1458-000.

Applicants: East Texas Electric Cooperative, Inc., Sam Rayburn G&T Electric Cooperative, Inc.

Description: eTariff filing per 35.19a(b): Refund Report to be effective N/A.

Filed Date: 4/30/15.

Accession Number: 20150430-5599.

Comments Due: 5 p.m. ET 5/21/15.

Docket Numbers: ER15-685-001.

Applicants: Midcontinent Independent System Operator, Inc.

Description: Compliance filing per 35: 2015-04-30 ELMP Compliance Filing to be effective 3/1/2015.

Filed Date: 4/30/15.

Accession Number: 20150430-5547.

Comments Due: 5 p.m. ET 5/21/15.

Docket Numbers: ER15-1619-000.

Applicants: Pacific Gas and Electric Company.

Description: Section 205(d) rate filing per 35.13(a)(2)(iii): CCSF IA—49th Quarterly Filing of Facilities Agreements to be effective 3/31/2015.

Filed Date: 4/30/15.

Accession Number: 20150430-5565.

Comments Due: 5 p.m. ET 5/21/15.

Docket Numbers: ER15-1620-000.

Applicants: Cassia Gulch Wind Park, LLC.

Description: Compliance filing per 35: Notice of Change in Status to be effective 4/1/2015.

Filed Date: 4/30/15.

Accession Number: 20150430-5567.

Comments Due: 5 p.m. ET 5/21/15.

Docket Numbers: ER15-1621-000.

Applicants: Constellation Energy Commodities Group Maine, LLC.

Description: Compliance filing per 35: Notice of Change in Status to be effective 4/1/2015.

Filed Date: 4/30/15.

Accession Number: 20150430-5575.

Comments Due: 5 p.m. ET 5/21/15.

Docket Numbers: ER15-1622-000.

Applicants: Constellation Energy Services, Inc.

Description: Compliance filing per 35: Notice of Change in Status to be effective 4/1/2015.

Filed Date: 4/30/15.

Accession Number: 20150430-5582.

Comments Due: 5 p.m. ET 5/21/15.

Docket Numbers: ER15-1623-000.

Applicants: Constellation Energy Services of New York, Inc.

Description: Compliance filing per 35: Notice of Change in Status to be effective 4/1/2015.

Filed Date: 4/30/15.

Accession Number: 20150430-5585.

Comments Due: 5 p.m. ET 5/21/15.

Docket Numbers: ER15-1624-000.

Applicants: Constellation NewEnergy, Inc..

Description: Compliance filing per 35: Notice of Change in Status to be effective 4/1/2015.

Filed Date: 4/30/15.

Accession Number: 20150430-5587.

Comments Due: 5 p.m. ET 5/21/15.

Docket Numbers: ER15-1625-000.

Applicants: Exelon Generation Company, LLC.

Description: Compliance filing per 35: Notice of Change in Status to be effective 4/1/2015.

Filed Date: 4/30/15.

Accession Number: 20150430-5588.

Comments Due: 5 p.m. ET 5/21/15.

Docket Numbers: ER15-1626-000.

Applicants: High Mesa Energy, LLC.

Description: Compliance filing per 35: Notice of Change in Status to be effective 4/1/2015.

Filed Date: 4/30/15.

Accession Number: 20150430-5590.

Comments Due: 5 p.m. ET 5/21/15.

Take notice that the Commission received the following electric securities filings:

Docket Numbers: ES15-22-000; ES15-23-000; ES15-24-000; ES15-25-000; ES15-26-000; ES15-27-000; ES15-28-000; ES15-29-000.

Applicants: Entergy Arkansas, Inc., Entergy Louisiana Power, LLC, Entergy Mississippi, Inc., Entergy New Orleans, Inc., Entergy Texas, Inc., System Energy Resources, Inc., Entergy Gulf States Louisiana, L.L.C., Entergy Louisiana, LLC.

Description: Joint Application of Entergy Arkansas, Inc., et. al. for FPA Section 204 authorizations.

Filed Date: 4/30/15.

Accession Number: 20150430-5651.

Comments Due: 5 p.m. ET 5/21/15.

Take notice that the Commission received the following land acquisition reports:

Docket Numbers: LA15-1-000.

Applicants: NextEra Companies.

Description: Quarterly Land Acquisition Report of the NextEra Companies.

Filed Date: 4/30/15.

Accession Number: 20150430-5646.

Comments Due: 5 p.m. ET 5/21/15.

Docket Numbers: LA15-1-000.

Applicants: Auburndale Peaker Energy Center, LLC, Bethpage Energy Center 3, LLC, Calpine Bethlehem, LLC, Calpine Construction Finance Company, L.P., Calpine Energy Services, L.P., Calpine Fore River Energy Center, LLC, Calpine Gilroy Gogen, L.P., Calpine Greenleaf, Inc., Calpine Mid-Atlantic Generation, LLC, Calpine Mid-Atlantic Marketing, LLC, Calpine Mid Merit, LLC, Calpine New Jersey Generation, LLC, Calpine Newark, LLC, Calpine Power America—CA, LLC, Calpine Vineland Solar, LLC, CCFC Sutter Energy, LLC, CES Marketing IX, LLC, CES Marketing X, LLC, CPN Bethpage 3rd Turbine, Inc., Creed Energy Center, LLC, Delta Energy Center, LLC, Garrison Energy Center LLC, Geysers Power Company, LLC, Gilroy Energy Center, LLC, Goose Haven Energy Center, LLC, Hermiston Power, LLC, KIAC Partners, Los Esteros Critical Energy Facility, LLC, Los Medanos Energy Center, LLC, Mankato Energy Center, LLC, Metcalf Energy Center, LLC, Morgan Energy Center, LLC, Nissequogue Cogen Partners, O.L.S. Energy-Agnews, Inc., Osprey Energy Center, LLC, Otay Mesa Energy Center, LLC, Pastoria Energy Facility L.L.C., Pine Bluff Energy, LLC, Power Contract Financing, L.L.C., RockGen Energy, LLC, Russell City Energy Company, LLC, South Point Energy Center, LLC, TBG Cogen Partners, Westbrook Energy Center, LLC, ZION ENERGY, LLC.

Description: Quarterly Land Acquisition Report of the Calpine MBR Sellers.

Filed Date: 4/30/15.

Accession Number: 20150430-5597.

Comments Due: 5 p.m. ET 5/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2015.
Kimberly D. Bose,
Secretary.

[FR Doc. 2015-10966 Filed 5-6-15; 8:45 am]

BILLING CODE 6717-01-P